DEPARTMENT OF ENERGY

Federal Energy Regulatory Commission

[Project No. 12665-003]

New York Tidal Energy Company; Notice of Intent To File License Application, Filing of Draft Application, Request for Waivers of Integrated Licensing Process Regulations Necessary for Expedited Processing of a Hydrokinetic Pilot Project License Application, and Soliciting Comments

June 10, 2009.

a. Type of Filing: Notice of Intent to File a License Application for an Original License for a Hydrokinetic Pilot Project.

b. Project No.: 12665-003.

c. Dated Filed: June 1, 2009.

d. Submitted By: New York Tidal Energy Company.

e. Name of Project: East River Tidal Energy Pilot Project.

f. Location: In the East River at Hell Gate, in New York City, New York. The project would not occupy federal lands.

g. Filed Pursuant to: 18 CFR 5.3 of the Commission's regulations.

h. Applicant Contact: Mike Hoover, New York Tidal Energy Company, 1785 Massachusetts Ave., NW., Suite 100, Washington, DC 20036, (202) 772-0099.

i. FERC Contact: Timothy Konnert (202) 502-6359.

j. New York Tidal Energy Company (NYTEC) has filed with the Commission: (1) A notice of intent (NOI) to file an application for an original license for a kinetic hydropower pilot project and a draft license application with monitoring plans; (2) a request for waivers of the integrated licensing process regulations necessary for expedited processing of a hydrokinetic pilot project license application; (3) a proposed process plan and schedule; (4) a request to be designated as the non-federal representative for section 7 of the Endangered Species Act consultation; and (5) a request to be designated as the non-federal representative for section 106 consultation under the National Historic Preservation Act (collectively the pre-filing materials).

k. With this notice, we are soliciting comments on the pre-filing materials listed in paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (East River Tidal Energy Pilot Project) and number (P-12665-003), and bear the heading “Comments on the proposed East River Tidal Energy Pilot Project.” Any individual or entity interested in submitting comments on the pre-filing materials must do so by July 10, 2009.

Comments may be filed electronically via the Internet in lieu of paper. The Commission strongly encourages electronic filings. See 18 CFR 385.2001(a)(1)(iii) and the instructions on the Commission's Web site (http://www.ferc.gov) under the “e-filing” link.

l. With this notice, we are approving NYTEC's request to be designated as the non-federal representative for section 7 of the Endangered Species Act (ESA) and its request to initiate consultation under section 106 of the National Historic Preservation Act; and recommending that it begin informal consultation with: (a) The U.S. Fish and Wildlife Service and the National Marine Fisheries Service as required by section 7 of ESA; and (b) the New York State Historic Preservation Officer, as required by section 106, National Historical Preservation Act, and the implementing regulations of the Advisory Council on Historic Preservation at 36 CFR 800.2.

m. This notice does not constitute the Commission's approval of NYTEC's request to use the Pilot Project Licensing Procedures. Upon its review of the project's overall characteristics relative to the pilot project criteria, the draft license application contents, and any comments filed, the Commission will determine whether there is adequate information to conclude the pre-filing process.

n. The proposed East River Tidal Energy Pilot Project would consist of: (1) A 2-meter-diameter 20 kW capacity hydrokinetic device during Phase 1, which would be replaced by a 6-meter-diameter 200 kW device in Phase 2; (2) an underwater cable connecting the hydrokinetic device to shore at one of two proposed locations; and (3) appurtenant facilities for operating and maintaining the project. NYTEC does not provide an estimate of annual generation of the proposed pilot project.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

p. Pre-filing process schedule. The pre-filing process will be conducted pursuant to the following tentative schedule. Revisions to the schedule may be made as appropriate.

Milestone | Date
Comments on pre-filing materials due | July 10, 2009.
Issuance of meeting notice (if needed) | July 24, 2009.
Public meeting/technical conference (if needed) | August 24, 2009.
Issuance of notice concluding pre-filing process and ILP waiver request determination | August 10, 2009 (if no meeting is needed) September 7, 2009 (if meeting is needed).

q. Register online at http://ferc.gov/esubscribenow.htm to be notified via e-mail of new filing and issuances related to this or other pending projects. For assistance, contact FERC Online Support.

Kimberly D. Bose,
Secretary.

[FR Doc. E9-14197 Filed 6-16-09; 8:45 am]

BILLING CODE 6717-01-P